INTERNATIONAL TRADE COMMISSION

[Investigations Nos. 731-TA-376, 563 and 564 (Second Review)]

Stainless Steel Butt-Weld Pipe Fittings From Japan, Korea, and Taiwan

Determination

On the basis of the record ¹ developed in the subject five-year reviews, the United States International Trade Commission determines,² pursuant to section 751(c) of the Tariff Act of 1930 (the Act),³ that revocation of the antidumping duty orders on stainless steel butt-weld pipe fittings from Japan, Korea, and Taiwan would be likely to lead to continuation or recurrence of material injury to an industry in the United States within a reasonably foreseeable time.

¹ The record is defined in § 207.2(f) of the Commission's Rules of Practice and Procedure (19 CFR 207.2(f)).

² Commissioner Shara L. Aranoff not participating.

³ 19 U.S.C. 1675(c).

Background

The Commission instituted these reviews on February 2, 2005 (70 FR 5478), and determined on May 9, 2005, that it would conduct expedited reviews (70 FR 30483, May 26, 2005).

The Commission transmitted its determinations in these reviews to the Secretary of Commerce on September 29, 2005. The views of the Commission are contained in USITC Publication 3801 (September 2005), entitled Stainless Steel Butt-Weld Pipe Fittings From Japan, Korea, and Taiwan: Investigations Nos. 731-TA-376, 563 and 564 (Second Review).

By order of the Commission.
Issued: October 3, 2005.
Marilyn R. Abbott,
Secretary to the Commission.

[FR Doc. 05-20205 Filed 10-6-05; 8:45 am]

BILLING CODE 7020-02-P